DEPARTMENT OF DEFENSE

GENERAL SERVICES ADMINISTRATION

NATIONAL AERONAUTICS AND SPACE ADMINISTRATION

48 CFR Parts 1, 4, 12, 19, 22, 52, and 53

[FAC 2005-48; FAR Case 2011-005; Item I; Docket 2010-0112, Sequence 1]

RIN 9000-AL87

Federal Acquisition Regulation; Repeal of the Small Business Competitiveness Demonstration Program

AGENCY: Department of Defense (DoD), General Services Administration (GSA), and National Aeronautics and Space Administration (NASA).

ACTION: Final rule.

SUMMARY: DoD, GSA, and NASA are issuing a final rule amending the Federal Acquisition Regulation (FAR) to remove FAR coverage of the Small Business Competitiveness Demonstration Program, to meet the requirements of section 1335 of the Small Business Jobs Act of 2010.

DATES: Effective Date: January 31, 2011.

FOR FURTHER INFORMATION CONTACT: For clarification of content, contact Mr. Karlos Morgan, Procurement Analyst, at (202) 501-2364. For information pertaining to status or publication schedules, contact the Regulatory Secretariat at (202) 501-4755. Please cite FAC 2005-48, FAR Case 2011-005.

SUPPLEMENTARY INFORMATION:

I. Background

This final rule amends the FAR to delete subpart 19.10 to meet the requirements of section 1335 of the Small Business Jobs Act of 2010 (Pub. L. 111-240), referred to as the Act. Section 1335 of the Act amended the Business Opportunity Development Reform Act of 1988 (Pub. L. 100-656) by striking Title VII (15 U.S.C. 644 note), the Small Business Competitiveness Demonstration Program. In accordance with the Act, the repeal of the Small Business Competitiveness Demonstration Program became immediately effective upon the enactment of the Act and it will apply to the first full fiscal year after the September 27, 2010, date of enactment. This change will remove the policy, procedures, provisions, clauses, and the information collection and recordkeeping requirements associated with the Small Business Competitiveness Demonstration Program, and will update forms deleting any references to the program.

II. Executive Order 12866

This is not a significant regulatory action and, therefore, was not subject to review under section 6(b) of Executive Order 12866, Regulatory Planning and Review, dated September 30, 1993. This rule is not a major rule under 5 U.S.C. 804.

III. Regulatory Flexibility Act

The Regulatory Flexibility Act does not apply to this rule. This final rule does not constitute a significant FAR revision within the meaning of FAR 1.501-3(a) and 41 U.S.C. 418b, and publication for public comments is not required.

IV. Paperwork Reduction Act

The final rule removes the information collection requirements associated with the Small Business Competitiveness Demonstration Program under OMB Clearance 9000-0100, and does not contain any information collection requirements that require the approval of the Office of Management and Budget under 44 U.S.C. chapter 35.

List of Subjects in 48 CFR Parts 1, 4, 12, 19, 22, 52, and 53

Government procurement.

Dated: December 22, 2010.
Millisa Gary,
Acting Director, Federal Acquisition Policy Division.

Therefore, DoD, GSA, and NASA amend 48 CFR parts 1, 4, 12, 19, 22, 52, and 53 as set forth below:

1. The authority citation for 48 CFR parts 1, 4, 12, 19, 22, 52, and 53 continues to read as follows:

Authority: 40 U.S.C. 121(c); 10 U.S.C. chapter 137; and 42 U.S.C. 2473(c).

PART 1—FEDERAL ACQUISITION REGULATIONS SYSTEM

1.106 [Amended]

2. Amend section 1.106, in the table following the introductory paragraph, by removing FAR segments 52.219-19, 52.219-20, and 52.219-21, and their corresponding OMB Control Number 9000-0100.

PART 4—ADMINISTRATIVE MATTERS

3. Amend section 4.603 by revising paragraph (b) to read as follows:

4.603 Policy.

* * * * *

(b) Executive agencies shall use FPDS to maintain publicly available information about all contract actions exceeding the micro-purchase threshold, and any modifications to those actions that change previously reported contract action report data, regardless of dollar value.

* * * * *

4.606 [Amended]

4. Amend section 4.606 by removing paragraph (a)(2); and redesignating paragraphs (a)(3) and (a)(4) as paragraphs (a)(2) and (a)(3), respectively.

4.1202 [Amended]

5. Amend section 4.1202 by removing paragraphs (k) and (l); and redesignating paragraphs (m) through (ee) as paragraphs (k) through (cc), respectively.

PART 12—ACQUISITION OF COMMERCIAL ITEMS

12.303 [Amended]

6. Amend section 12.303 by removing from the end of paragraph (b)(1) “, or if set aside for emerging small businesses”.

12.603 [Amended]

7. Amend section 12.603 by removing the second sentence of paragraph (c)(2)(iv).

PART 19—SMALL BUSINESS PROGRAMS

19.304 [Amended]

8. Amend section 19.304 by removing from the first sentence in the introductory text in paragraph (c) “52.212-3(c)(9)” and adding “52.212-3(c)(8)” in its place.

9. Amend section 19.502-2 by revising the last sentence in paragraph (a); and by removing paragraph (d).

The revised text reads as follows:

19.502-2 Total small business set-asides.

(a) * * * The small business reservation does not preclude the award of a contract with a value not greater than $150,000 under subpart 19.8, Contracting with the Small Business Administration, or under 19.1305, HUBZone set-aside procedures.

* * * * *

Subpart 19.10—[Removed and Reserved]

10. Remove and reserve subpart 19.10.

PART 22—APPLICATION OF LABOR LAWS TO GOVERNMENT ACQUISITIONS

22.1006 [Amended]

11. Amend section 22.1006 by—

a. Removing from paragraph (a)(2)(i)(C) “52.204-8(c)(2)(v) or (vi)” and adding “52.204-8(c)(2)(iii) or (iv)” in its place;

b. Removing from paragraph (e)(2)(i) “52.204-8(c)(2)(v)” and adding “52.204-8(c)(2)(iii)” in its place; and

c. Removing from paragraph (e)(4)(i) “52.204-8(c)(2)(vi)” and adding “52.204-8(c)(2)(iv)” in its place.

PART 52—SOLICITATION PROVISIONS AND CONTRACT CLAUSES

52.204-8 [Amended]

12. Amend section 52.204-8 by—

a. Removing from the date of the provision “Oct 2010” and adding “(JAN 2011)” in its place;

b. Removing paragraphs (c)(2)(i) and (c)(2)(ii); and

c. Redesignating paragraphs (c)(2)(iii) through (c)(2)(x) as paragraphs (c)(2)(i) through (c)(2)(viii), respectively.

52.212-3 [Amended]

13. Amend section 52.212-3 by—

a. Removing from the date of the provision “Oct 2010” and adding “(JAN 2011)” in its place;

b. Removing from paragraph (a), the definition “Emerging small business”;

c. Removing paragraph (c)(8); and

d. Redesignating paragraphs (c)(9) and (c)(10) as paragraphs (c)(8) and (c)(9), respectively.

52.219-19 through 52.219-21 [Removed and Reserved]

14. Remove and reserve sections 52.219-19 through 52.219-21.

PART 53—FORMS

53.212 [Amended]

15. Amend section 53.212 by removing “SF 1449, (Rev. 3/2005)” and adding “SF 1449, (Rev. 10/2010)” in its place.

53.213 [Amended]

16. Amend section 53.213 by removing from paragraphs (a) and (f) “SF 1449, (Rev. 3/2005)” and adding “SF 1449, (Rev. 10/2010)”, respectively, in its place; and by removing from paragraph (f) “OF 347 (Rev. 4/06)” and adding “OF 347, (Rev. 10/2010)” in its place.

53.214 [Amended]

17. Amend section 53.214 by removing from paragraph (d) “SF 1447 (APR 2008)” and adding “SF 1447 (Rev. 11/2010)” in its place.

53.236-1 [Amended]

18. Amend section 53.236-1 by removing from paragraph (e) “OF 347 (Rev. 03/2005)” and adding “OF 347, (Rev. 10/2010)” in its place.

19. Amend section 53.301-1447 by revising the form to read as follows:

53.301-1447 Solicitation/Contract.

BILLING CODE 6820-EP-P

20. Amend section 53.301-1449 by revising the form to read as follows:

53.301-1449 Solicitation/Contract/Order for Commercial Items.

21. Amend section 53.302-347 by revising the form to read as follows:

53.302-347 Order for Supplies or Services.

[FR Doc. 2010-32900 Filed 12-29-10; 8:45 am]

BILLING CODE